DEPARTMENT OF HEALTH AND HUMAN SERVICES

National Institutes of Health

Office of the Director, National Institutes of Health; Notice of Meeting

Pursuant to section 10(a) of the Federal Advisory Committee Act, as amended (5 U.S.C. App.), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: April 6, 2017.

Time: 8:15 a.m. to 5:00 p.m.

Agenda: OAR Director's report; Update from OARAC Working Groups for Treatment and Prevention Guidelines; Report from November 2016 OARAC meeting; Report on Continued Stakeholder Engagement; Update on HIV/AIDS research from the National Heart, Lung, and Blood Institute; invited presentations and panel discussion on The Impact of the Microbiome in HIV Prevention and Pathogenesis.

Place: National Institutes of Health, Terrace Level Conference Center, 5635 Fishers Lane, Rockville, MD 20852.

Contact Person: Elizabeth S. Church, Ph.D., Executive Secretary, Office of AIDS Research, DPCPSI, Office of the Director, 5601 Fishers Lane, Room 2E-60, Rockville, MD 20852-9830, 240-627-3201, elizabeth.church@nih.gov.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: March 6, 2017.
Natasha M. Copeland,
Program Analyst, Office of Federal Advisory Committee Policy.

[FR Doc. 2017-04703 Filed 3-9-17; 8:45 am]

BILLING CODE 4140-01-P